DEPARTMENT OF ENERGY

Federal Energy Regulatory Commission

Combined Notice of Filings #1

June 29, 2005.

Take notice that the Commission received the following electric rate filings:

Docket Numbers: ER01-1265-007; ER01-1263-006; ER01-1266-006; ER01-1267-008; ER01-1268-007; ER01-1269-006; ER01-1270-008; ER01-1271-007; ER01-1272-006; ER01-1273-007; ER01-1274-007; ER01-1275-006; ER01-1276-006; ER01-1277-006; ER01-1278-008; ER02-537-006; ER02-900-005; ER02-1028-005; ER02-1052-005; ER02-1213-005; ER03-160-005.

Applicants: Mirant Americas Energy Marketing, LP; Mirant Zeeland, LLC; Mirant Bowline, LLC; Mirant California, LLC; Mirant Canal, LLC; Mirant Chalk Point, LLC; Mirant Delta, LLC; Mirant Kendall, LLC; Mirant Lovett, LLC; Mirant Mid-Atlantic, LLC; Mirant New England, LLC; Mirant NY0Gen, LLC; Mirant Peaker, LLC; Mirant Potomac River, LLC; Mirant Potrero, LLC; Shady Hills Power Company, LLC; Mirant Sugar Creek, LLC; Wrightsville Power Facility, LLC; West Georgia Generating Company, LLC; Mirant Energy Trading, LLC; Mirant Las Vegas, LLC.

Description: The above-referenced Mirant Entities submit an amendment to their Market-based rate tariff incorporating change in status language in compliance with FERC's 5/26/05 order, 111 FERC ¶ 61,252 (2005).

Filed Date: 06/24/2005.

Accession Number: 20050628-0061.

Comment Date: 5 p.m. eastern time on Friday, July 15, 2005.

Docket Numbers: ER01-1529-007; ER01-1529-007.

Applicants: Sierra Pacific Power Company and Nevada Power Company.

Description: Sierra Pacific Power Company and Nevada Power Company submit a compliance filing pursuant to the Commission's 5/26/05 order, 111 FERC ¶ 61,259 (2005).

Filed Date: 06/24/2005.

Accession Number: 20050628-0225.

Comment Date: 5 p.m. eastern time on Friday, July 15, 2005.

Docket Numbers: ER05-1139-000; ER05-1140-000; ER05-1141-000; ER05-1142-000.

Applicants: Dominion Energy Marketing, Inc.; Dominion Nuclear Connecticut, Inc.; Dominion Nuclear Marketing III, L.L.C.; Kincaid Generation, L.L.C.

Description: Dominion Energy Marketing, Inc., Dominion Nuclear Connecticut, Inc.; Dominion Nuclear Marketing III, L.L.C.; and Kincaid Generation, L.L.C. submits proposed changes to their respective market-based rate tariffs to incorporate a prohibition against making sales to Virginia Electric and Power Company absent advance authorization from the Commission.

Filed Date: 06/24/2005.

Accession Number: 20050628-0063.

Comment Date: 5 p.m. eastern time on Friday, July 15, 2005.

Docket Numbers: ER05-6-029; EL04-135-031; EL02-111-049; EL03-212-045.

Applicants: Midwest Independent Transmission System Operator, Inc.

Description: Midwest Independent Transmission System Operator, Inc. and the Midwest ISO Transmission Owners jointly submits a revision to a typographical error in their June 13, 2005 filing in the above-referenced docket numbers.

Filed Date: 06/24/2005.

Accession Number: 20050628-0060.

Comment Date: 5 p.m. eastern time on Friday, July 15, 2005.

Docket Numbers: ER05-909-001.

Applicants Black Hills Power, Inc.

Description: Black Hills Power, Inc. as Joint Tariff Administrator of the Joint Open Access Transmission Tariff of Black Hills Power, Basin Electric Power Cooperative, and Powder River Energy Corporation, submits a revised version of a service agreement filed on 4/29/2005 in Docket No. ER05-929-000.

Filed Date: 06/24/2005.

Accession Number: 20050628-0223.

Comment Date: 5 p.m. eastern time on Friday, July 15, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Linda Mitry,
Deputy Secretary.

[FR Doc. E5-3540 Filed 7-5-05; 8:45 am]

BILLING CODE 6717-01-P